DEPARTMENT OF THE TREASURY

Internal Revenue Service

Community Volunteer Income Tax Assistance (VITA) Matching Grant Program—Availability of Application Packages

AGENCY: Internal Revenue Service (IRS), Treasury.

ACTION: Notice.

SUMMARY: This document provides notice of the availability of the application package for the 2014 Community Volunteer Income Tax Assistance (VITA) Matching Grant Program.

DATES: Application packages are available electronically from the IRS on May 1, 2013 by visiting: IRS.gov (key word search—“VITA Grant”) or through Grants.gov. The deadline for submitting an application to the IRS for the Community VITA Matching Grant Program is May 31, 2013. All applications must be submitted through Grants.gov.

ADDRESSES: Internal Revenue Service, Grant Program Office, 401 West Peachtree St. NW., Suite 1645, Stop 420-D, Atlanta, GA 30308.

FOR FURTHER INFORMATION CONTACT: Grant Program Office via their email address at Grant.Program.Office@irs.gov.

SUPPLEMENTARY INFORMATION: Authority for the Community Volunteer Income Tax Assistance (VITA) Matching Grant Program is contained in the Department of Defense and Full-Year Continuing Appropriations Act, 2011, Public Law 112-10, signed April 15, 2011.

Dated: March 12, 2013.
Deborah Matthews,
Acting Chief, Grant Program Office, IRS, Stakeholder Partnerships, Education & Communication.

[FR Doc. 2013-06563 Filed 3-21-13; 8:45 am]

BILLING CODE 4830-01-P